DEPARTMENT OF EDUCATION

[Docket No. ED-2020-SCC-0010]

Statewide Longitudinal Data System (SLDS) Survey 2020-2022; ED-2020-SCC-0010; Correction

AGENCY: National Center for Education Statistics (NCES), Department of Education (ED).

ACTION: Correction notice.

SUMMARY: On March 6, 2020, the U.S. Department of Education published a 30-day comment period notice in the Federal Register with FR DOC# 2020-04568 seeking public comment for an information collection entitled, “Statewide Longitudinal Data System (SLDS) Survey 2020-2022”. The comment period ends on April 17, 2020 instead of April 6, 2020, and interested persons are invited to submit comments on or before April 17, 2020.

The PRA Coordinator, Strategic Collections and Clearance Governance and Strategy Division, Office of Chief Data Officer, hereby issues a correction notice as required by the Paperwork Reduction Act of 1995.

Dated: March 12, 2020.
Kathy Axt,
PRA Coordinator, Strategic Collections and Clearance, Governance and Strategy Division, Office of Chief Data Officer.

[FR Doc. 2020-05494 Filed 3-16-20; 8:45 am]

BILLING CODE 4000-01-P